DEPARTMENT OF THE INTERIOR

Bureau of Land Management

[LL WO31000-L13100000.PP0000-24-1A]

Extension of Approval of Information Collection, OMB Control Number 1004-0196

AGENCY: Bureau of Land Management, Interior.

ACTION: 60-Day Notice and Request for Comments.

SUMMARY: In compliance with the Paperwork Reduction Act of 1995, the Bureau of Land Management (BLM) is announcing its intention to request approval to continue the collection of information from operators and operating rights owners in the National Petroleum Reserve—Alaska (NPRA). This information collection activity was previously approved by the Office of Management and Budget (OMB), and was assigned control number 1004-0196.

DATES: Submit comments on the proposed information collection by October 18, 2010.

ADDRESSES: Comments may be mailed to U.S. Department of the Interior, Bureau of Land Management, Mail Stop 401- LS, 1849 C St., NW., Washington, DC 20240. Comments may also be submitted by fax to Jean Sonneman at 202-912-7102 or electronically to Jean_Sonneman@blm.gov. Please indicate “Attention: 1004-0196” regardless of the form of comment.

FOR FURTHER INFORMATION CONTACT: To receive a copy of the information collection request, contact Barbara Gamble, Division of Fluid Minerals, at 202-912-7148. Persons who use a telecommunication device for the deaf (TDD) may call the Federal Information Relay Service (FIRS) at 1-800-877-8339, to leave a message for Ms. Gamble.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Oil and Gas Leasing: National Petroleum Reserve—Alaska (43 CFR Part 3130).

Forms: There are no forms associated with control number 1004-0196.

OMB Control Number: 1004-0196.

Abstract:

Frequency of Collection: On occasion.

Estimated Number and Description of Respondents: There are 3 operators and owners of operating rights on the NPRA. The information required by 43 CFR part 3130 covers a range of activities, and a specific operator or owner of operating rights might not be required to provide information each year. While the BLM does not necessarily receive each type of information every year, one response annually is estimated for each of the 20 aspects of this information collection in order to analyze the burdens.

Estimated Reporting and Recordkeeping “Hour” Burden: The estimated annual burden for this collection is 217.5 hours. The following chart details the individual components and respective hour burden estimates of this information collection request:

Information collection (43 CFR) | Requirement | Hours per response | Number of respondents | Total burden hours
3133.4 | Royalty Reduction | 16 | 1 | 16
3135.3 | Suspension of operations | 4 | 1 | 4
3135.6 | Notification of operations | 0.25 | 1 | 0.25
3137.23 | Unit designation | 80 | 1 | 80
3137.25 | Notification of unit approval | 1 | 1 | 1
3137.52 | Certification for modification | 4 | 1 | 4
3137.60 | Acceptable bonding | 0.5 | 1 | 0.5
3137.61 | Change of unit operator | 0.75 | 1 | 0.75
3137.70 | Certification of unit obligation | 2 | 1 | 2
3137.71 | Certification of continuing development | 2 | 1 | 2
3137.84 | Productivity for a PA | 12 | 1 | 12
3137.87 | Unleased tracts | 3 | 1 | 3
3137.88 | Notification of productivity | 0.5 | 1 | 0.5
3137.91 | Notification of productivity for non-unit well | 0.5 | 1 | 0.5
3137.92 | Production information | 1 | 1 | 1
3137.111 | Lease extension | 3 | 1 | 3
3137.112 | Inability to conduct operations activities | 2 | 1 | 2
3137.130 | Unit termination | 1 | 1 | 1
3137.135 | Impact mitigation | 4 | 1 | 4
3138.11 | Storage agreement | 80 | 1 | 80
Totals |  |  | 20 | 217.5

Before including your address, telephone number, e-mail address, or other personal identifying information in your comment, be advised that your entire comment—including your personal identifying information—may be made publicly available at any time. While you can ask in your comment to withhold from public review your personal identifying information, we cannot guarantee that we will be able to do so.

Jean Sonneman,
Acting Information Collection Clearance Officer, Bureau of Land Management.

[FR Doc. 2010-20244 Filed 8-16-10; 8:45 am]

BILLING CODE 4310-84-P